DEPARTMENT OF DEFENSE

Department of the Navy

Notice of Availability of Invention for Licensing; Government-Owned Invention

AGENCY: Department of the Navy, DOD.

ACTION: Notice.

SUMMARY: The inventions listed below are assigned to the United States Government as represented by the Secretary of the Navy and are available for licensing by the Department of the Navy. Navy Case No. 83,562: Making it Possible to Use a Human Similarity Measure in a Face Recognition System.//Navy Case No. 83,817: Fiber FTIR in the Mid-Wave-IR and Long-Wave-IR Spectral Region.//Navy Case No. 84,353: Ultrathin, Conformal Polymer Coatings as Separators at Nanostructured Metal Oxides Used for Energy Storage.//Navy Case No. 84,425: Smoke Detector System Alarm Activation Via 85 Decibel Acoustic Horn from any Detector Location.//Navy Case No. 84,558: Method and Apparatus for Passive Acoustic Ranging in Shallow Water.//Navy Case No. 84,812: Tri-Axial Hybrid Vibration Isolator.//Navy Case No. 84,925: Carbon Nanoarchitectures with Ultrathin, Conformal Polymer Coatings for Electrochemical Capacitors.//Navy Case No. 95,807: CMOS Analog-to-Digital Converter with Arbel Channel.//Navy Case No. 95,924: Detector of Slow-Moving Targets in High-Resolution Sea.//Navy Case No. 95,959: Hybrid Cat's Eye Modulating Retro-Reflector with Coarse Pointing Element.//Navy Case No. 95,978: 3-D SAR Sub-Pixel Resolution.//Navy Case No. 95,988: TiO2 Aerogel-Based Photoboltaic Electrodes and Solar Cells.//Navy Case No. 96,014: Controller for Event-Based Statistical Covert Channels.//Navy Case No. 96,139: CNT-Based Nanocomposite for Hydrogen Storage and Fuel Cell Applications.//Navy Case No. 96,148: Gas Filled Hollow Core Chalcogenide Photonic Bandgap Fiber Raman Device and Method.//Navy Case No. 96,182: All Electronic Isolator Using Negative Refractive Fixed Heterostructure Bi-Crystal or Ferroelectric Heterostructure Bi-Crystal or Ferroelectric Heterostructure Bi-Crystal.//Navy Case No. 96,194: IR Supercontinuum Source.//Navy Case No. 96,231: Doppler-Sensitive Adaptive Coherence Estimate Detector.//Navy Case No. 96,301: Scale Adaptive Filtering.//Navy Case No. 96,318: Wafer Bonded High Voltage Power Switch.//Navy Case No. 96,353: Dual Large Area Plasma Processing System.//Navy Case No. 96,365: One-Dimensional Iris Signature for Iris Identification.//Navy Case No. 96,406: Laser Filament Imager.//Navy Case No. 96,499: Thermally Reflective Encapsulated Phase Change Pigment.//Navy Case No. 96,578: Method of Fabrication MgB2 Superconductors by Hot Rolling.//Navy Case No. 96,583: Secure Agent Software Development System.//Navy Case No. 96,585: Magnetically Directed Self-Assembly of Molecular Electronic Junctions.//Navy Case No. 96,612: Silicon Nitride Passivation with Ammonia Plasma Pretreatment for Improving Reliability of A1GaN/GaN HEMTs.//Navy Case No. 96,613: A Conducting Polymer Switch for Proteins—Control of Protein Activity Using Doped and Dedoped States of Highly Conducting Hydroxylated Poly (3,4 Ethylenedioxythiophene).//Navy Case No. 96,628: Method of Controlling Quantum Dot Photoluminescence and Other Intrinsic Properties Through Biological Specificity.//Navy Case No. 96,629: Multistatic Radar Adaptive Pulse Compressor.//Navy Case No. 96,691: Method and Apparatus for Generating Power from Voltage Gradients at Sediment-Water Interfaces Using Active Transport of Sediment Porewater.//Navy Case No. 96,695: Pattern Assessment Methodology Using Spatial Analysis.//Navy Case No. 96,740: Metal Vapor Vacuum Arc (MeVVa) Eight-Element Pulsed Ion Source.//Navy Case No. 96,769: Securerun, an XML Based Scripting Framework For Interactive, Semi-Automated, Automated, and Distributed Applications.//Navy Case No. 96,775: Magnesium Aluminate Transparent Ceramic Having Low Scattering and Absorption Loss.//Navy Case No. 96,776: Optical Fiber Clad-Protective Terminations.//Navy Case No. 96,826: Novel Biodegradable Biofouling Control Coating and Method of Formulator.//Navy Case No. 96,834: Impact Tensile Test Machine.//Navy Case No. 96,837: Low Loss VIS-IR (0.5-5.0um) Transmitting Ceramic Alon—Glass Composite Windows and Domes.//Navy Case No. 96,839: Low Loss VIS-IR (0.5-5.0 um) Transmitting Glass—Ceramic Spinel Composite Windows and Domes.//Navy Case No. 96,866: Composition and Method for Making a Solvent Free, Self Polishing Poly-Urethane Matrix for Use in Solvent Free Antifoulings with Much Enhanced Mechanical Properties and Expected Life Term.//Navy Case No. 96,921: LiF Coated Magnesium Aluminate.//Navy Case No. 96,928: Narrow Band Notch Filter with Multiple Signal Path.//Navy Case No. 96,943: Optical Interrogation of Micro-Mechanical Sensors Using Microcavity Interferometry.//Navy Case No. 97,019: Electrospray Coating of Aerosols On-the-Fly for Fluorescent Labeling and Identification.//Navy Case No. 97,081: Poly-En-Urea, A Novel Solvent Free Weatherable Coating.//Navy Case No. 97,123: Reaction of Inorganic-Organic Linear Hybrid with Metal Salts and Metal Complexes Producing the Metallic Adduct of the Acetylenic Unit and Thermoset Formation Thereof.//Navy Case No. 97,124: Ceramic Compositions Formulated from Thermal Conversion of Thermosets Produced from Inorganic-Organic Linear Hybrid with Metal Salts and Metal Complexes of the Acetylenic Units.//Navy Case No. 97,197: Microarray-Based Detection and Molecular Characterization of Human Pathogenic Vibrio SPP.//Navy Case No. 97,200: Composite Battery Electrodes for High Rate Applications and Rapid Recharging.//Navy Case No. 97,294: Method of Transferring a Ultra-Thin Layer of Crystalline Material with High Crystalline Quality (#1).//Navy Case No. 97,295: Method of Transferring a Ultra-Thin Layer of Crystalline Material with High Crystalline Quality (#2).//Navy Case No. 97,316: A General Method for Stacking Thermal Actuators.//Navy Case No. 97,318: Non-Conductive Magnetic and Semiconductor Tunable Composite Negative Refractive Index Composite.//Navy Case No. 97,333: Radar Pulse Repetition Interval (PRI) Tracking Algorithm, or Radar Radio Frequency (RF) Tracking Algorithm.//Navy Case No. 97,413: Multi-Channel Carrier Suppression and Extraction Technique.//Navy Case No. 97,444: Volume Sensor: Data Fusion-Based, Multi-Sensor System for Advanced Damage Control.//Navy Case No. 97,454: Interferometer Based Chromatic Dispersion Monitor.//Navy Case No. 97,461: Novel Biodegradable Biofouling Control Coating and Method of Formulator.//Navy Case No. 97,486: Processing Semantic Markups in Web Ontology Language (OWL) with an Universal Description, Discovery and Integration (UDDI) Registry.//Navy Case No. 97,493: A Novel Method for the Bottom-Seeded Growth of Potassium Lead Chloride Crystals from Polycrystalline Seeds.//Navy Case No. 97,494: Compression Assembly of Spatial Heterodyne Spectrometer (SHS).//Navy Case No. 97,497: Thioacetate De-protection Method Using Catalytic Quaternary Ammonia Cyanide in Combination with a Protic Solvent.//Navy Case No. 97,498: Incorporation of 18 Oxygen into Peptide Mixtures for Differential Protein Expression Analysis by Mass Spectrometry.//Navy Case No. 97,499: Fiber Microstructure for Coupling a Plurality of Single Mode Fibers Onto One or More, High Bandwidth Photo-Detector(s) for Communications, Sensor, or Signal Processing Applications.//Navy Case No. 97,522: Long Range Active Thermal Imaging Using a Microwave or Millimeter-Wave Beam.//Navy Case No. 97,527: Controlled Actuated Membranes and Method of Making Same.//Navy Case No. 97,581: System and Method for Estimating Ocean Height and Current on a Personal Computer with Hurricane Module.//Navy Case No. 97,613: Passaged Neural Stem Cell-Derived Neuronal Networks as Sensing Elements for Detection of Environmental Threats.//Navy Case No. 97,614: Weighted, Summing Photonic Digital-to-Analog Conversion.//Navy Case No. 97,625: Thermoset Material Made From Siloxane-Acetylene Polymer Containing Metal-Acetylene.//Navy Case No. 97,661: Method and Apparatus for Three Dimensional Blending (TDB).//Navy Case No. 97,662: Integrally Gated Carbon Nanotube Field Ionizer Device and Method of Manufacture Therfor.//Navy Case No. 97,693: Technique for Detecting Damage-Induced Nonlinearities in Structures in the Absence of Baseline Data.//Navy Case No. 97,698: A Method and Apparatus for Attaching a Fluid Cell to a Planar Substrate.//Navy Case No. 97,705: Tri-Axial Hybrid Vibration Isolator.//Navy Case No. 97,713: Coating of Polymeric Fibers with Inorganic-Organic Hybrid Polymers for Environmental and Oxidative Protection.//Navy Case NO. 97,717: Remote Laser Assisted Biological Aerosol Standoff Detection in Atmosphere.//Navy Case No. 97,718: Multi-Core Optical Fiber Design for Distributed Sensing of Twist and Bend by Internal Strain Measurements.//Navy Case No. 97,725: Technique for Transformation of Universal Transverse Mercator Projected Raster Images into a Geodetic Projection.//Navy Case No. 97,727: System and Method for Analysis of Partial Iris Recognition.//Navy Case No. 97,738: Mosaic, Suppression of Edge Delamination Through Meso-Scale Structuring.//Navy Case No. 97,740: Advance Metoc Broker.//Navy Case No. 97,741: Iris Pattern Extraction Using Bit Planes and Standard Deviations.//Navy Case No. 97,745: Algorithm and System for Retrieving Ionospheric Parameters from Disk-Viewing Ultraviolet Airglow Data.//Navy Case No. 97,789: Crystalline III-V Nitride Films on Refractory Metal Substrates for High-Power Device Application.//Navy Case No. 97,792: Vacuum Wave Maker System.//Navy Case No. 97,793: Tactical Pocket Knife with Prying Protrusion, Boot-Shaped Lock, and Rotating Clip.//Navy Case No. 97,886: Adding Semantic Support to Existing UDDI Infrastructure.//Navy Case No. 97,893: Use of SiGe HBT to Moderate Light Through its Carrier Plasma.//Navy Case No. 97,911: Self Decontaminating Surfaces.//Navy Case No. 97,922: SOFC Cathode Containing Lanthanum Nickelate (La2Ni04+d).//Navy Case No. 97,925: Advanced Metoc Broker.//Navy Case No. 97,949: Feature Selection and Pattern Recognition Methods for Toxic Industrial Chemical and Fire Detection Using Cermet Sensors.//Navy Case No. 98,043: Secure Middleware.//Navy Case No. 98,052: Trifluoromethylcarbinol Terminated Alkanethiols.//Navy Case No. 98,059: A Configuration that Combines a Contra-Rotating Pair of Single-Blade Wing/Rotors and a Tilting Canard Wing/Propeller Unit into a Stop-Rotor Converting Rotor-Wings/Fixed-Wings Hybrid Micro-Air Vehicle with Full 3-Axis Control in all Modes of Flight.//Navy Case No. 98,063: Active-Twist Airfoil System.//Navy Case No. 98,070: IR Fiber Parametric Amplifier and Source.//Navy Case No. 98,071: Poled IR Fiber Parametric Amplifier and Source.//Navy Case No. 98,079: Functional Polymers Via Surface Modifying Agents, and Method for Polymeric Surface Modification.//Navy Case No. 98,082: Automated Discovery, Binding, and Integration of Non-Registered Geospatial Web Services.//Navy Case No. 98,094: Novel, Single Domain Antibody Libraries to Provide Heat Stable, High Affinity, Recombinant Recognition Elements.//Navy Case No. 98,095: Multi-Sensor Display System.//Navy Case No. 98,096: Manual FACS Coding Tool.//Navy Case No. 98,117: Polymerizable Sulfonate Ionic Liquids and Liquid Polymers Therefrom.//Navy Case No. 98,168: Infrared Transfer of Functionalized Nanoparticles.//Navy Case No. 98,185: Materials and Structures Thereof Useful as Electrocatalysts.//Navy Case No. 98,212: Applications of the Binding Interaction of Proanthocyanidins with Bacteria and Bacterial Components.//Navy Case No. 98,214: Calibrated Impact Hammer.//Navy Case No. 98,254: Optically Clear Monolith with Embedded Molecularly Imprinted Periodic Mesoporous Organosilicas (PMOs) as Selective Sorbents, Pre-Concentrators, and/or as Recognition Elements for Optical Sensors.//Navy Case No. 98,258: Self Calibration Devices for Chemical and Bio Analyte Trace Detectors.//Navy Case No. 98,286: An Ensemble Approach to Robust Classifier Fusion.//Navy Case No. 98,287: Electroless Deposition of Nanoscale Manganese Oxide on Ultraporous Carbon Nanoarchitectures for Electrochemical Capacitor Applications.//Navy Case No. 98,288: Graphical Representation of Facial Movements, Body Movements and Speech Over Time.//Navy Case No. 98,316: Mobile Self-Spreading Biocides.//Navy Case No. 98,325: Design and Selection of Genetic Targets for Sequence Resolved Organism and Identification.//Navy Case No. 98,346: Method of Making a Nanostructured Electrode.//Navy Case No. 98,347: Catalyst Nanoparticle.//Navy Case No. 98,387: Secure Digital Communications Using Chaotic Signals: An Attractor-Based Approach.//Navy Case No. 98,404: High Performance Chirped Electrode Design for Cat's Eye Retro-Reflector Modulators and any continuations, continuations-in-part divisionals or re-issues thereof.

ADDRESSES: Requests for copies of the inventions cited should be directed to the Naval Research Laboratory, Code 1004, 4555 Overlook Avenue, SW., Washington, DC 20375-5320, and must include the Navy Case number.

FOR FURTHER INFORMATION CONTACT: Head, Technology Transfer Office, NRL Code 1004, 4555 Overlook Avenue, SW., Washington, DC 20375-5320, telephone (202) 767-7230. Due to temporary U.S. Postal Service delays, please fax (202) 404-7920, e-mail: techtran@utopia.nrl.navy.mil or use courier delivery to expedite response.

(Authority: 35 U.S.C. 207, 37 CFR Part 404)

Dated: November 7, 2006.
M.A. Harvison,
Lieutenant Commander, Judge Advocate General's Corps, U.S. Navy, Federal Register Liaison Officer.

[FR Doc. E6-19155 Filed 11-13-06; 8:45 am]

BILLING CODE 3810-FF-P